DELAWARE RIVER BASIN COMMISSION

Revised Proposed Amendment to the Delaware River Basin Commission's Water Code and Comprehensive Plan To Establish Water Usage Reporting Requirements and Proposed Amendment to the Commission's Water Metering Requirements

SUMMARY: The Delaware River Basin Commission (“Commission”) will hold a public hearing to receive comments on revised proposed amendments to its Water Code and Comprehensive Plan to establish water usage reporting requirements for source water withdrawals and water service and to receive comments on proposed amendments to its water metering requirements. On October 23, 2000 the Commission published on its web site a Notice of Proposed Rulemaking to establish water usage reporting requirements to ensure that the Commission has the source and service information needed to evaluate how and where water is being used in the basin. Notice also was published in the Federal Register on November 29, 2000 (65 FR 71094). The Commission held a public hearing on the proposed rulemaking on January 9, 2001. Today, in response to written and oral testimony, including recommendations of the Commission's Water Management Advisory Committee, substantive changes are proposed to the previously noticed amendments to the Water Code and Comprehensive Plan. The Commission deems the changes significant enough to warrant this revised notice, a new opportunity for comment, and a second hearing before it adopts the proposed amendments. The proposal that is the subject of today's notice differs significantly from the original in that it extends the water usage reporting obligation set forth in proposed Section 2.50.3 of the Water Code to users subject to the Commission's Ground Water Protected Area Regulations for Southeastern Pennsylvania, including the owner(s) of each water supply system serving the public and each person, firm, corporation, or other entity, other than water supply systems serving the public, subject to the Ground Water Protected Area Regulations for Southeastern Pennsylvania. Minor changes to the proposed water usage reporting requirements include additional requests for data on acres irrigated (for irrigated uses only), whether water is recycled or reclaimed, and the percentages recycled or reclaimed. These data are requested only if available and only in an initial report and thereafter when changes occur. The revised proposed water usage reporting requirements differ from the original proposed requirements in one further respect. They provide that in the absence of an administrative agreement between the Commission and the state agency serving as the designated agency, the Commission shall administer and enforce the regulations. To ensure consistency, a similar revision as to administration and enforcement is proposed in Sections 2.50.1 and 2.50.2, concerning water metering requirements.

DATES: The public hearing will be held on Thursday, April 19, 2001 during the Commission's regular business meeting. The meeting will begin at 1 p.m. and continue until all those present who wish to testify are afforded an opportunity to do so. Persons wishing to testify at the hearing are asked to register in advance with the Commission Secretary.

The deadline for submission of written comments will be April 6, 2001.

ADDRESSES: The public hearing will be held at the New York City Municipal Building, One Centre Street, Building One, Room 1019, in lower Manhattan. Directions will be posted on the Commission's web site, www.drbc.net, by mid-March. Written comments should be submitted to Pamela M. Bush, Delaware River Basin Commission, P.O. Box 7360, West Trenton, NJ 08628-0360.

FOR FURTHER INFORMATION CONTACT: Supplemental information, including an explanation of the need for water usage reporting requirements and an account of the process by which the amendments originally were proposed, is contained in the original Notice of Proposed Rulemaking. The existing regulations, original Notice of Proposed Rulemaking and this Notice of Revised Proposed Rulemaking all are posted on the Delaware River Basin Commission web site at www.drbc.net. Please contact Esther Siskind at 609-883-9500 ext. 202 with questions about the proposed amendments and Pamela M. Bush, ext. 203 with questions about the rulemaking process.

Dated: February 23, 2001.
Pamela M. Bush,
Commission Secretary.

[FR Doc. 01-4954 Filed 2-28-01; 8:45 am]

BILLING CODE 6360-01-P